UNITED STATES INSTITUTE OF PEACE

Notice of Meeting

Agency: United States Institute of Peace.

Date/Time: Thursday, July 19, 2012 (8:30 a.m.-4:00 p.m.).

Location: 2301 Constitution Avenue NW., Washington, DC 20037.

Status: Open Session—Portions may be closed pursuant to Subsection (c) of Section 552(b) of Title 5, United States Code, as provided in subsection 1706(h)(3) of the United States Institute of Peace Act, Public Law 98-525.

Agenda: July 19, 2012 Board Meeting; Approval of Minutes of the One Hundred Forty-Third Meeting (April 26, 2012) of the Board of Directors; Chairman's Report; President's Report; Update on Management, Budget and Congress; Update on USIP Work in Syria, Burma & Libya; Board Executive Session; Other General Issues.

Contact: Tessie F. Higgs, Executive Office, Telephone: (202) 429-3836.

Dated: July 6, 2012.
Paul Hughes,
Chief of Staff, United States Institute of Peace.

[FR Doc. 2012-17194 Filed 7-16-12; 8:45 am]

BILLING CODE 6820-AR-M